DEPARTMENT OF JUSTICE

Notice of Proposed Consent Decree Under the Comprehensive Environmental Response, Liability, and Compensation Act

Notice is hereby given that on September 10, 2009, the United States filed a Complaint and lodged a proposed Consent Decree in United States v. StarLink Logistics, Inc. (SLLI), Case No. CV-09-4185-BZ (N.D. Cal.). The Complaint asserts claims against SLLI under CERCLA Sections 107(a)(2) and 113(g)(2), 42 U.S.C. 9607(a)(2) and 9613(g)(2), to recover past response costs and to obtain a declaratory judgment for future costs incurred by the United States Environmental Protection Agency (“EPA”) at the Rhone-Poulenc/Zoecon Corp. Superfund Site located at 1990 Bay Road, East Palo Alto, San Mateo County, California (“Site”).

The proposed Consent Decree resolves claims in the Complaint. Under the Decree, SLLI will pay EPA $784,363.33 in past costs, defined as costs incurred through May 31, 2009, and all future costs incurred thereafter associated with the Wetland Operable Unit at the Site. In addition, SLLI will pay United States Department of Interior, Fish and Wildlife Service (“DOI”) $12,764.20 in natural resource damage assessment costs incurred at the Site. In return, SLLI and its current or former affiliates Aventis Agriculture, Hoechst GmbH, Rhône-Poulenc Inc., Aventis CropScience USA Inc., and Bayer CropScience Inc., receive a covenant not to sue from the United States with respect to past response costs and future response costs at the Site under Section 107(a) of CERCLA, 42 U.S.C. 9607(a), and with respect to Natural Resource Damages under Section 107 of CERCLA, Section 1002(b)(2)(A) of Oil Pollution Act, 33 U.S.C. 2702(b)(2)(A), or Section 311(f)(4) and (5) of the Clean Water Act, 33 U.S.C. 1321(f)(4) and (5).

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. StarLink Logistics, Inc., Case No. CV-09-4185-BZ (N.D. Cal.), D.J. Ref. 90-11-3-09436.

The Consent Decree may be examined at the U.S. Environmental Protection Agency, Region 9, Office of Regional Counsel, 75 Hawthorne Street, San Francisco, California 94105. During the public comment period, the Consent Decree may also be examined on the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $8.75 (.25 cents per page reproduction cost) payable to the U.S. Treasury, or if by e-mail or fax, forward a check in that amount to the Consent Decree Library at the stated address.

Maureen Katz,
Assistant Chief, Environmental Enforcement Section, Environment and Natural Resources Division.

[FR Doc. E9-22510 Filed 9-18-09; 8:45 am]

BILLING CODE 4410-15-P